DEPARTMENT OF THE INTERIOR

Fish and Wildlife Service

Notice of Availability of the Draft Comprehensive Conservation Plan and Environmental Assessment for St. Marks National Wildlife Refuge in Wakulla, Jefferson and Taylor Counties, FL

AGENCY: Fish and Wildlife Service, Interior.

ACTION: Notice of availability.

SUMMARY: The Fish and Wildlife Service announces that a Draft Comprehensive Conservation Plan and Environmental Assessment for St. Marks National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

DATES: Public meetings will be held in each county to present the plan to the public. Mailings, media releases, and Web site postings will be the avenues to inform the public of the dates and times for the meetings. Individuals wishing to comment on the Draft Comprehensive Conservation Plan and Environmental Assessment for St. Marks National Wildlife Refuge should do so no later than March 21, 2006.

ADDRESSES: Requests for copies of the Draft Comprehensive Conservation Plan and Environmental Assessment should be addressed to Mary Morris, Natural Resource Planner, St. Marks National Wildlife Refuge, P.O. Box 68, St. Marks, Florida 32355; Telephone (850) 925-6121. The plan and environmental assessment may also be accessed and downloaded from the Service's Internet Web site http://southeast.fws.gov/planning/ or the refuge's Web site http://saintmarks.fws.gov. Comments on the draft plan may be submitted to the above address (attention: Mary Morris, Natural Resource Planner) or via electronic mail to Mary_Morris@fws.gov. Please include your name and return address in your Internet message. Our practice is to make comments, including names and home addressed of respondents, available for pubic review during regular business hours. Individual respondents may request that we withhold their home addresses from the record, which we will honor to the extent allowable by law.

SUPPLEMENTARY INFORMATION: Priority issues addressed in the draft plan include: habitat protection and land conservation; migratory birds; partnerships; fire and forest management; exotic, invasive and nuisance species; wildlife inventory and monitoring; imperiled species management; visitor services; funding and staffing; and wilderness and cultural resources protection.

The Service developed three alternatives for managing the refuge and chose Alternative 2 as the preferred alternative.

Alternatives

Alternative 1 represents no change from current management of the refuge. The most recent approved acquisition boundary expansion (2000) would allow for the acquisition and protection of 3,764 acres of land adjacent to the refuge. Habitat planning documents would be revised as staff resources allow. Currently, the State of Florida provides funding for the majority of exotic plant species control and supplies, but staff resources are used for an aggressive control program. Exotic animals are removed through the hunt program. A series of impoundments are managed for waterfowl and these habitats are dependent on the upper basin outside of the refuge, which is experiencing hydrologic change.

Most research work on the refuge is conducted with outside funding and partnering agencies. Monitoring work is focused to the highest priority species, such as red-cockaded woodpeckers. The refuge has a need for basic inventories of threatened, endangered, and imperiled species and plant and animal species. The habitat and life requirement needs of many species are unknown and the presence or absence of rare or imperiled species has not been fully addressed.

Visitor services would remain with existing programs, facilities, and staff addressing the priority public uses—hunting, fishing, wildlife observation, wildlife photography, and environmental education and interpretation. Environmental education and interpretation programs would continue and be conducted mainly onsite, with staff participation in a few offsite outreach festivals yearly.

Protection of cultural resources would continue to rely on patrols by the law enforcement officer. A comprehensive inventory of resources is needed. The St. Marks Lighthouse would remain an unimproved structure without public access. Maintenance would be performed, as required for a national historic site to the extent funding is available.

The Wilderness Area would remain a Class I airshed and monitoring of ozone would continue. Patrols in the Wilderness Areas would also continue to be performed by the law enforcement officer.

All refuge functions would be conducted in existing administrative, visitor service, fire, and maintenance facilities. The existing staff would be maintained.

The preferred alternative, Alternative 2, is considered the most effective management action for meeting the purposes of the refuge. The proposed management plan outlines the enhancement of wildlife populations and related habitats over the next 15 years. It also improves refuge safety and protection of resources, and may provide visitors with more opportunities for wildlife viewing and wildlife-dependent recreation. Environmental education and outreach would be expanded under this proposed option.

In support of habitat and wildlife conservation, the most notable proposal is to emphasize and encourage the protection of additional conservation lands, outside the current acquisition boundary, that are critical to the protection of refuge resources. This conservation focus area includes lands south of U.S. Highway 98, southeast of Panacea, south of the Ochlockonee river, and the East and Wacissa Rivers drainage basins. The State of Florida is actively pursuing the acquisition of lands adjacent to the refuge and seeking partnerships with the Service for management. A conservation buffer area around the refuge would help ensure the integrity of the refuge's land and water resources and enhance the connectivity of wildlands critical for species, such as the Florida black bear, by providing a conservation corridor. Many objectives and strategies focus on maintaining and restoring native communities, particularly longleaf pine. The development of the refuge as a Land Management Research and Demonstration Area would help the refuge to become a leader in longleaf pine research and conservation and would enable the sharing of that knowledge with other to benefit both private and publicly owned lands. Programs to control or eradicate terrestrial and aquatic non-indigenous and invasive plants are proposed, as is nuisance animal control. Hydrologic studies and land conservation are proposed to maintain the integrity of refuge resources and to manage the impoundments to benefit migratory birds.

Many ongoing and proposed programs and effort focus on threatened, endangered, rare, and imperiled species of plants and animals. The need for extensive inventorying and monitoring for baseline data is addressed in this management plan, particularly for red-cockaded woodpeckers, bald eagles, wood storks, least terns and flatwood salamanders.

Since a primary purpose for refuge establishment is to provide habitat for migratory birds, the improvement of the impoundments to provide high quality for waterfowl, shorebirds and marsh birds is proposed. So, too, are strategies to improve forested habitat, such as pine flatwoods, pine-cabbage palmetto hammocks, mesic and hydric pine hardwood, and hardwood hammocks.

A primary focus of the visitor services program, as proposed, is to enhance environmental education and outreach efforts substantially. This plan may offer increased opportunity for wildlife-dependent recreation, such as photography, hiking and wildlife observation. Fishing improvements and angler awareness programs are proposed. The feasibility of conducting youth hunt programs and clinics will be explored. The restoration of the St. Marks Lighthouse would provide an opportunity to present the refuge's rich cultural and historic heritage.

Sensitive areas and rich resources, such as the refuge's designated Wilderness Area and cultural resources, would receive more protection through increased law enforcement. A major provision of this alternative is a comprehensive study of all refuge archaeological and historical resources.

Meeting basic refuge operation needs has been addressed. Essential new office space, staffing, and equipment needs are proposed.

Alternative 3 incorporates and builds-upon all the habitat improvements listed under Alternative 2. Protection of the East River drainage basin would occur. Exotic plant and animal species would be controlled or eradicated. Hardwood habitat management would be improved.

The biological programs of the refuge would be greatly enhanced with the addition of three biologist and/or biological technician positions to expand the Land Management Research and Demonstration Area program, to add additional projects, and to improve outreach and coordination with other conservation agencies and the public. Monitoring and inventorying of rare and imperiled species would be enhanced, especially for reptiles, amphibians, mammals, and those bird species not considered highest priority. A herpetologist would be employed to study reptiles and amphibians, to conduct literature reviews, and to share data with partners. Wood-duck banding would be increased. The impoundments would be actively managed for rails, and life-history studies would be conducted. Point counts of priority species would be undertaken for regional and national trend analysis. With additional staff, refuge personnel could more effectively monitor and respond to wildlife disturbance and habitat management issues.

Visitor services would be improved with the addition of a ranger position to operate the expanded Visitor Center and to assist with both on- and off-site outreach opportunities. Two additional environmental education specialists would maintain the environmental education classroom, laboratory outdoor classrooms and overnight facility, providing maximum opportunity to the public and groups 7 days a week. They would assist the lead environmental education specialist in program development and training of staff, volunteers, and educators. In addition to needed facilities proposed under Alternative 2, a research center to house the Land Management Research and Demonstration Area program staff would be constructed in order to provide laboratory and housing facilities for partnering researchers and educators.

Cultural and wilderness resources would be further protected through the addition of a law enforcement officer who would also serve as a community police liaison in an effort to educate the public about refuge resources and to deter and prevent crime. All step-down plans, except for the Land Protection Plan, would be completed within 5 years of plan adoption.

The refuge, established in 1931 as a breeding ground for wild animals and birds, is situated along the Gulf coast of northwest Florida, about 25 miles south of Tallahassee. It currently covers about 68,931 acres with an approved acquisition boundary of 74,469 acres. Refuge personnel also manage 947 acres of State land and 334 acres of USDA Forest Service land within the approved acquisition boundary. The Wilderness Act designated 17,446 acres as the St. Marks Wilderness. The refuge aims to provide habitat for a natural diversity of plants and animals with a primary purpose of wildlife habitat conservation. The refuge is also being managed to provide opportunity for compatible wildlife-dependent recreation.

Authority: This notice is published under the authority of the National Wildlife Refuge System Improvement Act of 1997, Pub. L. 105-57.

Dated: October 31, 2005.
Cynthia K. Dohner,
Acting Regional Director.

[FR Doc. 06-523 Filed 1-19-06; 8:45 am]

BILLING CODE 4310-55-M